DEPARTMENT OF COMMERCE

International Trade Administration

[A-570-943]

Oil Country Tubular Goods From the People's Republic of China: Postponement of Preliminary Determination of Antidumping Duty Investigation

AGENCY: Import Administration, International Trade Administration, Department of Commerce.

DATES: Effective Date: August 26, 2009.

FOR FURTHER INFORMATION CONTACT: Laurel LaCivita or Eugene Degnan, AD/CVD Operations, Office 8, Import Administration, International Trade Administration, U.S. Department of Commerce, 14th Street and Constitution Avenue, NW., Washington, DC 20230; telephone: (202) 482-4243 or (202) 482-0414, respectively.

SUPPLEMENTARY INFORMATION:

Postponement of Preliminary Determination

On April 28, 2009, the Department of Commerce (“the Department”) initiated an antidumping duty investigation on Oil Country Tubular Goods from the People's Republic of China.¹ The notice of initiation stated that, unless postponed, the Department would issue its preliminary determination no later than 140 days after the date of issuance of the initiation, in accordance with section 733(b)(1)(A) of the Tariff Act of 1930, as amended (“the Act”). The preliminary determination is currently due no later than September 15, 2009.

¹ See Oil Country Tubular Goods From the People's Republic of China: Initiation of Antidumping Duty Investigation, 74 FR 20671 (May 5, 2009).

On August 18, 2009, petitioners, Maverick Tube Corporation, United States Steel Corporation, TMK IPSCO, V&M Star L.P., V&M Tubular Corporation of America, Wheatland Tube Corp., Evraz Rocky Mountain Steel, United Steel, Paper and Forestry, Rubber, Manufacturing, Energy, Allied Industrial and Service Workers International Union, AFL-CIO-CLC (collectively, “Petitioners”), made a timely request, pursuant to 19 CFR 351.205(b)(2) and (e), for a 50-day postponement of the preliminary determination, in order to allow additional time for the review of complex questionnaire responses.² Because there are no compelling reasons to deny the request, in accordance with section 733(c)(1)(A) of the Act, the Department is postponing the deadline for the preliminary determination by 50 days to no later than November 4, 2009. The deadline for the final determination will continue to be 75 days after the date of the preliminary determination, unless extended.

² See letter from Petitioners, “Certain Oil Country Tubular Goods from the People's Republic of China,” August 17, 2009.

This notice is issued and published pursuant to section 733(c)(2) of the Act and 19 CFR 351.205(f)(1).

Dated: August 24, 2009.
Ronald K. Lorentzen,
Acting Assistant Secretary for Antidumping and Countervailing Duty Operations.

[FR Doc. E9-20699 Filed 8-25-09; 8:45 am]

BILLING CODE 3510-DS-P